DEPARTMENT OF DEFENSE

Office of the Secretary

[Docket ID DoD-2015-OS-0068]

Privacy Act of 1974; System of Records

AGENCY: National Guard Bureau, DoD.

ACTION: Notice to add a new System of Records.

SUMMARY: The National Guard Bureau proposes to add a new system of records INGB 004, entitled “Joint Services Support System (JSS).” JSS will be a centralized, web-based portal that manages, for the Yellow Ribbon Reintegration Program (YRRP), the entire event life cycle—to include, planning, conducting and reporting, for events held nationwide, for Service members and their families. In addition to YRRP, JSS also aims to support program management activities/events for other currently participating programs, such as the Family Program, Employer Support Program, Financial Management Awareness Program, Sexual Assault Response and Prevention Program, Psychological Health Program and Warrior Support program, as well as future Guard and Reserve programs supporting the National Guard Bureau (NGB), Manpower and Personnel Directorate. JSS will also support the collection and storage of Civilian Employer Information (CE) from Service members to fulfill the Uniformed Services Employment and Reemployment Rights Act (USERRA) mandate.

DATES: Comments will be accepted on or before August 12, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (703) 601-6884.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on May 15, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 7, 2015.
Aaron Siegel,
Alternate OSD Federal Register Liaison Officer, Department of Defense.

INGB 004

System name:

Joint Services Support System (JSS)

System location:

Datacenter located at 801 Industrial Boulevard, Suite #200, Grapevine, Texas 76051-8635.

Categories of individuals covered by the system:

Current and former members of the Federally Recognized Air and Army National Guards of the United States, current and former members of the United States Armed Forces, current and former members of the Reserve Components of the United States Armed Forces, family members of current and former members of the National Guard, Armed Forces, and Armed Forces Reserve, Department of Defense civilian employees and contractors, and volunteers.

Categories of records in the system:

Service affiliation, name, DoD ID Number, date of birth, personal and business phone number, business email address, entitlement and eligibility information, activation and mobilization dates, unit name and address, employment information (type of employment, dates of employment), employer information (past and current employer name address and phone number).

Authority for maintenance of the system:

10 U.S.C. 10502, Chief, National Guard Bureau; 38 U.S.C. 4301-4335, Employment and Reemployment Rights of Members of the Uniformed Services; 10 U.S.C. 10145, Ready Reserve: placement in; 10 U.S.C. 12302, Ready Reserve; Public Law 110-181, Section 582, Yellow Ribbon Integration; 20 CFR part 1002, Regulations Under the Uniformed Services Employment and Reemployment Rights Act of 1994; DoD Instruction 1342.28, DoD Yellow Ribbon Reintegration Program (YRRP); DoD Manual 7730.54-M, Vol.2, Reserve Components Common Personnel Data System (RCCPDS): Personnel Reports, and DoD Manual 7730.54 Vol. 1, and Reserve Components Common Personnel Data System (RCCPDS): Reporting Procedures.

Purpose(s):

The National Guard Bureau is proposing to add a new system of records that will be a centralized, web-based portal that manages, for the Yellow Ribbon Reintegration Program (YRRP), the entire event life cycle—to include, planning, conducting and reporting, for events held nationwide, for Service members and their families. In addition to YRRP, JSS also aims to support program management activities/events for other currently participating programs, such as the Family Program, Employer Support Program, Financial Management Awareness Program, Sexual Assault Response and Prevention Program, Psychological Health Program and Warrior Support program, as well as future Guard and Reserve programs supporting the National Guard Bureau (NGB), Manpower and Personnel Directorate. JSS will also support the collection and storage of Civilian Employer Information (CE) from Service members to fulfill the Uniformed Services Employment and Reemployment Rights Act (USERRA) mandate.

Routine uses of records maintained in the system including categories of users and the purpose of such uses:

In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the National Guard Bureau compilation of system of records notices may apply to this system. The complete list of DoD blanket routine uses can be found online at: http://dpcld.defense.gov/Privacy/SORNsIndex/BlanketRoutineUses.aspx.

Policies and practices for storing, retrieving, accessing, retaining, and disposing of records in the system:

Storage:

Electronic storage media.

Retrievability:

By DoD ID Number, date of birth and last name, or by name only, depending on the category of individual.

Safeguards:

Data center access is limited to only data center technicians and the center uses biometric scanning for controlled data center access. The data center also has security camera monitoring and 24-hour onsite staff providing additional protection against unauthorized entry. All employees are trained on documented information security and privacy procedures. Access to confidential information is restricted to authorized personnel only according to documented processes.

Systems access is logged and tracked for auditing purposes. Secure document-destruction policies are in place for all sensitive information and change-management procedures are fully documented. In addition, there is an independently audited disaster recovery and business continuity of operations plan in place.

Retention and disposal:

Disposition pending (until the National Archives and Records Administration approves retention and disposal schedule for the National Guard Bureau all records will be treated as permanent).

System manager(s) and address:

National Guard Bureau (NGB), Manpower and Personnel Directorate (J1), 111 South George Mason Drive, Arlington Hall 2, Arlington, VA 22204-1373.

Notification procedure:

Individuals who wish to inquire whether this system of records contains information about themselves should address written inquiries to National Guard Bureau (NGB), Manpower and Personnel Directorate (J1), Joint Support Personnel System; 111 South George Mason Drive, Arlington Hall 2, Arlington, VA 22204-1373.

Written requests must include the individual's DoD ID number or their name and date of birth, and full mailing address to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking to access information about themselves in this system should address written inquiries to National Guard Bureau (NGB), Manpower and Personnel Directorate (J1), 111 South George Mason Drive, Arlington Hall 2, Arlington, VA 22204-1373

Written requests must include the individual's DoD ID number or their name and date of birth, as well as full mailing address to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting records procedures:

The National Guard Bureau rules for accessing records and for contesting contents and appealing initial agency determinations are published at 32 CFR part 329 or may be obtained from the system manager.

Record source categories:

Information is collected directly from the individual when registering as a user or registering to attend an event or reporting their civilian employer information. Defense Manpower Data Center (DMDC) also provides additional information about Service members (only), to validate the information collected directly from the Defense Eligibility and Enrollment Reporting System (DEERS) and provide eligibility information to the programs providing the services.

Exemptions claimed for the system:

None.

[FR Doc. 2015-16970 Filed 7-10-15; 8:45 am]

BILLING CODE 5001-06-P